DEPARTMENT OF STATE

[Public Notice:10968]

Designation of Amadou Kouffa as a Specially Designated Global Terrorist

Acting under the authority of and in accordance with section 1(b) of Executive Order 13224 of September 23, 2001, as amended by Executive Order 13268 of July 2, 2002, and Executive Order 13284 of January 23, 2003, I hereby determine that the person known as Amadou Kouffa, also known as Hamadou Kouffa, also known as Hamadoun Kouffa, also known as Amadou Barry, is a foreign person who is a leader of an entity whose property and interests in property are blocked pursuant to a determination by the Secretary of State pursuant to Executive Order 13224.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: July 23, 2019.
Michael R. Pompeo,
Secretary of State.

Editorial Note: The Office of the Federal Register received this document for publication on December 3, 2019.

[FR Doc. 2019-26396 Filed 12-5-19; 8:45 am]

BILLING CODE 4710-AD-P